DEPARTMENT OF TRANSPORTATION

Federal Railroad Administration

[Docket Number FRA-2013-0010]

Petition for Waiver of Compliance

In accordance with Part 211 of Title 49 Code of Federal Regulations (CFR), this document provides the public notice that by a document dated January 31, 2013, the Chessie Logistics Company LLC (CLCY), a Class III railroad, has petitioned the Federal Railroad Administration (FRA) for a waiver of compliance from certain provisions of the Federal railroad safety regulations. FRA assigned the petition Docket Number FRA-2013-0010.

Specifically, CLCY has petitioned for a waiver of compliance from the requirements of: 49 CFR Sections 223.11, Requirements for existing locomotives; 231.30, Locomotives used in switching service; 229.47, Emergency brake valve; 229.115, Slip/slide alarms; 229.125, Headlights and auxiliary lights; 224.105, Sheeting dimensions and quantity; 224.106, Location of retroreflective sheeting; 229.129, Locomotive horn; 229.131, Sanders; and 229.135, Event recorders. CLCY seeks this waiver for its 5TM track mobile, CLCY 106. CLCY employs the track mobile for yard and industry switching, which is confined to CLCY's tracks within the J. Emil Anderson & Son, Inc. Industrial Park, located in Melrose Park, Cook County, IL. CLCY operates on 1.06 miles of track and 431 feet of siding. It interchanges railcars with the Indiana Harbor Belt Railroad on a transfer track that is west of Mannheim Road. CLCY is the sole rail operator on this line and provides rail service to two shippers. The 5TM track mobile switches, shoves, and pulls all railcars with their train air brakes cut in to maintain control of all switching movements. The track mobile will always operate at speeds not to exceed 10 mph. CLCY will not use a locomotive for these switching operations.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 12, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 21, 2013.
Robert C. Lauby,
Deputy Associate Administrator for Regulatory and Legislative Operations.

[FR Doc. 2013-04375 Filed 2-25-13; 8:45 am]

BILLING CODE 4910-06-P